DEPARTMENT OF LABOR

Employment and Training Administration

Agency Information Collection Activities; Comment Request; Standard Job Corps Contractor Information Gathering

ACTION: Notice.

SUMMARY: The Department of Labor's (DOL or Department) Employment and Training Administration (ETA) is soliciting comments concerning a proposed extension for the authority to conduct the information collection request (ICR) titled, “Standard Job Corps Contractor Information Gathering.” This comment request is part of continuing Departmental efforts to reduce paperwork and respondent burden in accordance with the Paperwork Reduction Act of 1995 (PRA).

DATES: Consideration will be given to all written comments received by October 15, 2024.

ADDRESSES: A copy of this ICR with applicable supporting documentation, including a description of the likely respondents, proposed frequency of response, and estimated total burden, may be obtained for free by contacting Hilda Alexander by telephone at 202-693-3843 (this is not a toll-free number) or by email at alexander.hilda@dol.gov. For persons with a hearing or speech disability who need assistance to use the telephone system, please dial 711 to access telecommunications relay services.

Submit written comments about, or requests for a copy of, this ICR by mail or courier to the U.S. Department of Labor, Employment and Training—Job Corps, 200 Constitution Ave NW, N-4459, Washington DC 20210; by email: alexander.hilda@dol.gov; or by fax: 240-531-6732.

FOR FURTHER INFORMATION CONTACT: Hilda Alexander by telephone at 202-693-3843 (this is not a toll-free number) or by email at alexander.hilda@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

WIOA authorizes the collection of information from Job Corps applicants to determine eligibility for the Job Corps program. 29 U.S.C. 3194-3195. Applicant and student data is maintained in accordance with the Department's Privacy Act System of Records Notice DOL/GOVT-2 Job Corps Student Records authorizes this information collection. As OJC continues to provide services to our student population throughout 121 centers, this collection of information supports OJC's mission. In this revision, OJC has migrated one instrument from paper-based to electronic-based of ETA 9219, Annual Career Technical Skills Training (CTST) form and retired two instruments, Annual Staff Training and ETA 9192 Annual Center Academic Programs Review.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0219.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Standard Job Corps Contractor Information Gathering.

Forms: ETA-9190 Grants Data Collection Forms (A, B, C). ETA 9222 Health and Wellness Center Annual Program Description. ETA 2110 Center Financial Report. ETA 2181 Center Operations Budget. ETA 2110 S Center Vacancy Separation Report. ETA 9213 Immunization Record. ETA 9212 Alcohol Testing Report. ETA 328 Property Inventory. ETA 6-36 Environmental Health Inspection. ETA 6-37 Inspection of Residential and Educational Facilities. ETA 6-38 Inspection of Water and Supply Facilities. ETA 9221 CRA Construction and Rehab Report. ETA 6-39 Inspection of Wastewater Treatment Facilities. ETA 9220 Center Preventive Maintenance Plan (PMP). ETA 6-131A and ETA 6-131B Disciplinary Discharge. ETA 6-131C Right to Appeal. ETA 640 Student Profile. ETA 661 Student Separation. ETA 9128 CDSS (Center Operations Plan). ETA 9219 CTST Annual. ETA 9214 Social Intake Form. ETA 9215 Physical Examination Form. ETA 9216 Health History Form. ETA 9217 Laboratory Testing Information Sheet.

OMB Control Number: 1205-0219.

Affected Public: Private Sector.

Estimated Number of Respondents: 426,663.

Frequency: Once.

Total Estimated Annual Responses: 426,663.

Estimated Average Time per Response: Varies.

Estimated Total Annual Burden Hours: 134,919 hours.

Total Estimated Annual Other Cost Burden: $0.

Authority: 44 U.S.C. 3506(c)(2)(A).

Josè Javier Rodrìguez,
Assistant Secretary for Employment and Training, Labor.

[FR Doc. 2024-18346 Filed 8-15-24; 8:45 am]

BILLING CODE 4510-FT-P